DEPARTMENT OF STATE

[Public Notice No. 3445]

Shipping Coordinating Committee; Notice of Meeting

The Shipping Coordinating Committee (SHC) scheduled to take place on Wednesday, November 8, 2000 at U.S. Coast Guard Headquarters has been cancelled. For further information, please contact Captain Joesph F. Ahern or Lieutenant Daniel J. Goettle, U.S. Coast Guard, Office of Maritime and International Law (G-LMI), 2100 Second Street, S.W., Washington, D.C. 20593-0001; telephone (202) 267-1527; fax (202) 267-4496.

Dated: October 18, 2000.
Stephen M. Miller,
Executive Secretary, Shipping Coordinating Committee.

[FR Doc. 00-27290 Filed 10-23-00; 8:45 am]

BILLING CODE 4710-07-P